DEPARTMENT OF COMMERCE

National Oceanic and Atmospheric Administration

50 CFR Part 648

[Docket No. 051209329-5329-01; I.D. 042606C]

Fisheries of the Northeastern United States; Atlantic Mackerel, Squid, and Butterfish Fisheries; Reopening of Directed Fishery for Loligo Squid

AGENCY: National Marine Fisheries Service (NMFS), National Oceanic and Atmospheric Administration (NOAA), Commerce.

ACTION: Directed fishery reopening.

SUMMARY: NMFS announces that commercial quota is available to allow the directed fishery for Loligo squid to reopen. Vessels issued a Federal moratorium permit to harvest Loligo squid in excess of the incidental catch allowance may continue landing Loligo squid as of April 27, 2006 effective date of this notice. The intent of this action is to allow for the full utilization of the commercial quota allocated to the Loligo squid directed fishery.

DATES: Effective April 27, 2006 through June 30, 2006.

FOR FURTHER INFORMATION CONTACT: Don Frei, Fishery Management Specialist, 978-281-9221, fax 978-281-9135.

SUPPLEMENTARY INFORMATION: Section 648.22 of part 50 CFR requires NMFS to close the directed Loligo squid fishery in the EEZ in Quarters I, II and III when 80 percent of the quarterly quota has been harvested. The Administrator, Northeast Region, NMFS, based on dealer reports and other available information, determined that 80 percent of the Quarter II quota for Loligo squid would be harvested by April 21, 2006 (71 FR 20900, April 24, 2006). Therefore, effective 0001 hours, April 21, 2006, the directed fishery for Loligo squid was closed. However, analysis of more recent data indicated that the closure threshold level of Loligo harvest had not been attained. Therefore, NMFS announces that the directed Loligo squid fishery will reopen on April 27, 2006. Vessels issued a Federal moratorium permit to harvest Loligo squid in excess of the incidental catch allowance may continue fishing for, retaining and landing Loligo squid in excess of the incidental catch upon reopening.

Classification

This action is required by 50 CFR part 648 and is exempt from review under Executive Order 12866.

Authority: 16 U.S.C. 1801 et seq.

Dated: April 26, 2006.
James P. Burgess,
Acting Director, Office of Sustainable Fisheries, National Marine Fisheries Service.

[FR Doc. 06-4117 Filed 4-27-06; 12:50 pm]

BILLING CODE 3510-22-S